DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of February 20, 2026 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Assistant Administrator for the Federal Insurance Directorate, Resilience, has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Elizabeth Asche,
Assistant Administrator, Federal Insurance Directorate, Resilience Federal Emergency Management Agency, Department of Homeland Security.

Community | Community map repository address
Bullock County, Alabama and Incorporated Areas
Docket No.: FEMA-B-2319
City of Union Springs | City Hall, 212 Prairie Street North, Union Springs, AL 36089.
Unincorporated Areas of Bullock County | Bullock County Revenue Commission's Office, 217 North Prairie Street, #102, Union Springs, AL 36089.
Elmore County, Alabama and Incorporated Areas
Docket No.: FEMA-B-2319
City of Tallassee | City Hall, 3 Freeman Avenue, Tallassee, AL 36078.
City of Wetumpka | City Hall, 408 South Main Street, Wetumpka, AL 36092.
Unincorporated Areas of Elmore County | Elmore County Highway Department, 155 County Shop Road, Wetumpka, AL 36092.
Macon County, Alabama and Incorporated Areas
Docket No.: FEMA-B-2319
City of Tuskegee | Municipal Complex, 101 Fonville Street, Tuskegee, AL 36083.
Town of Franklin | Franklin Police Department, 1660 Alabama Highway 49, Tuskegee, AL 36083.
Town of Notasulga | Town Hall, 76 West Main Street, Notasulga, AL 36866.
Town of Shorter | Town Hall, 2427 Old Federal Road, Shorter, AL 36075.
Unincorporated Areas of Macon County | Macon County Courthouse, 101 East Rosa Parks Avenue, Tuskegee, AL 36083.
Montgomery County, Alabama and Incorporated Areas
Docket No.: FEMA-B-2319
City of Montgomery | City Hall, 103 North Perry Street, Montgomery, AL 36104.
Town of Pike Road | Town Hall, 9575 Vaughn Road, Pike Road, AL 36064.
Unincorporated Areas of Montgomery County | Montgomery County Courthouse Annex, 100 South Lawrence Street, Montgomery, AL 36104.
Washington County, Wisconsin and Incorporated Areas
Docket No.: FEMA-B-2448
City of West Bend | City Hall, 1115 South Main Street, West Bend, WI 53095.
Unincorporated Areas of Washington County | Washington County Public Agency Center, 333 East Washington Street, Suite 2300, West Bend, WI 53095.
Village of Germantown | Village Hall, N112 W17001 Mequon Road, Germantown, WI 53022.
Village of Kewaskum | Village Hall, 204 First Street, Kewaskum, WI 53040.
Village of Newburg | Village Hall, 620 West Main Street, Newburg, WI 53060.
Village of Richfield | Richfield Village Hall, 4128 Hubertus Road, Hubertus, WI 53033.

[FR Doc. 2025-22246 Filed 12-5-25; 8:45 am]

BILLING CODE 9110-12-P